DEPARTMENT OF HEALTH AND HUMAN SERVICES

Centers for Medicare & Medicaid Services

[CMS-1421-N]

Medicare Program; Plan To Transition to a Medicare Value-Based Purchasing Program for Physician and Other Professional Services: Listening Session, December 9, 2008

AGENCY: Centers for Medicare & Medicaid Services (CMS), HHS.

ACTION: Notice of meeting.

SUMMARY: This notice announces a listening session being conducted as part of the development of a plan for the transition to a value-based purchasing program for physician and other professional services as required by section 131(d) of the Medicare Improvements for Patients and Providers Act of 2008 (MIPPA). The purpose of the listening session is to solicit comments on an issues paper that will present the range of issues being considered for plan development. Physicians, physician associations, and all others interested in the pursuit of new payment approaches to enhance the quality and efficiency of physician and other professional services are invited to participate, in person or by calling in to the teleconference. The issues paper will be posted on the CMS Web site Physician Center Spotlights at http://www.cms.hhs.gov/center/physician.asp no later than November 28, 2008. The issues identified and discussed during this meeting will assist us in developing options for the plan. The meeting is open to the public, but attendance is limited to space and teleconference lines available.

DATES: Meeting Date: The listening session will be held on Tuesday, December 9, 2008 from 10 a.m. until 4 p.m. e.s.t.

Deadline for Meeting Registration and Request for Special Accommodations: Registration opens on Monday, October 27, 2008. Registration must be completed by 5 p.m. e.s.t. Tuesday, December 2, 2008. Requests for special accommodations must be received by 5 p.m. e.s.t. on Tuesday, December 2, 2008.

Deadline for Submission of Written Comments or Statements: Written comments or statements on the issues paper may be sent via mail, fax, or electronically to the address specified in the ADDRESSES section of this notice and must be received by 5 p.m. e.s.t. on Tuesday, December 16, 2008.

ADDRESSES: Meeting Location: The listening session will be held in the main auditorium of the Central Building of the Centers for Medicare & Medicaid Services, 7500 Security Boulevard, Baltimore, MD 21244-1850.

Registration and Special Accommodations: Persons interested in attending the meeting or participating by teleconference must register by completing the on-line registration via the CMS Web site at http://registration.intercall.com/go/cms2. Individuals who require special accommodations should send an e-mail request to mpf@cms.hhs.gov or via regular mail to Robin Phillips at the address specified in the FOR FURTHER INFORMATION section of this notice.

Written Comments or Statements: Written comments or statements may be sent via e-mail to PhysicianVBP@cms.hhs.gov, faxed to 410-786-8005; or sent via regular mail to: Centers for Medicare & Medicaid Services, 7500 Security Boulevard, Baltimore, MD 21244-1850, Mail Stop C5-15-02, Attn: Physician VBP comments.

All persons planning to make a statement in person at the listening session are urged to submit statements in writing during the listening session and should subsequently submit the information electronically by the timeframe specified in the DATES section of this notice.

FOR FURTHER INFORMATION CONTACT: For further information regarding the December 9, 2008 listening session contact Robin Phillips, 410-786-3010 in the Provider Communications Group. You may also send inquiries about this listening session via e-mail to mpf@cms.hhs.gov or via regular mail at Centers for Medicare & Medicaid Services, Mail Stop C4-13-07, 7500 Security Boulevard, Baltimore, MD 21244-1850.

I. Background

Section 131(d) of the Medicare Improvements for Patients and Providers Act of 2008 (MIPPA), enacted on July 15, 2008, requires the Secretary of the Department of Health and Human Services to develop a plan to transition to a value-based purchasing (VBP) program for Medicare payment for covered professional services. It also requires the Secretary to submit a Report to Congress no later than May 1, 2010, containing the plan with recommendations for legislation and administrative action that the Secretary deems appropriate.

We have created an internal Physician VBP Workgroup that is charged with developing the plan. The workgroup is organized into four subgroups to address the major components of the plan: (1) Measures; (2) data infrastructure and reporting; (3) incentive methodology; and (4) public reporting. The CMS workgroup will identify key issues in each component to create the issues paper, prepare a set of design options that take into consideration the findings from the listening session and comments on the issues paper, narrow the set of design options to prepare a draft plan, and develop the final plan that will be submitted in a Report to Congress. The process of plan development began in September 2008 and is intended to be completed in time for submission of the Report to Congress (which is due no later than May 1, 2010). The December listening session and perhaps other sessions will be hosted to solicit comments from physicians and other health professionals on outstanding design questions associated with development of the plan.

II. Listening Session Format

The listening session will be held on December 9, 2008 to consider the key design issues raised in the issues paper. The session will begin at 10 a.m. e.s.t. with an overview of the objectives for the session and a brief summary of the approach to developing the plan. Beginning at approximately 10:30 a.m. e.s.t. the remainder of the meeting will be devoted to presenting and receiving comments on key design and policy issues in each of the major components of the plan: (1) Measures; (2) data infrastructure and reporting; (3) incentive methodology; and (4) public reporting. The agenda will provide opportunities for brief 2-minute comments on each of the key issues from on-site session attendees. As time allows, telephone participants will also have the opportunity to provide brief 2-minute comments. A lunch break will occur from approximately 12:30 p.m. e.s.t. to 1:15 p.m. e.s.t. The meeting will conclude by 4 p.m. e.s.t. with brief comments on next steps.

III. Registration Instructions

For security reasons, any persons wishing to attend this meeting must register by the date listed in the DATES section of this notice. Persons interested in attending the meeting or participating by teleconference must register by completing the on-line registration via the CMS Web site at http://registration.intercall.com/go/cms2. The on-line registration system will generate a confirmation page to indicate the completion of your registration. Please print this page as your registration receipt.

Individuals may also participate in the listening session by teleconference. Registration is required as the number of call-in lines will be limited. The call-in number will be provided upon confirmation of registration.

An audio download of the listening session will be available within 72 hours after completion of the listening session through the CMS Web site Physician Center Spotlights at http://www.cms.hhs.gov/center/physician.asp.

IV. Security, Building, and Parking Guidelines

This meeting will be held in a Federal government building; therefore, Federal security measures are applicable. In planning your arrival time, we recommend allowing additional time to clear security. The on-site check-in for visitors will begin at 9:15 a.m. e.s.t. Please allow sufficient time to complete security checkpoints.

Security measures include the following:

• Presentation of government-issued photographic identification to the Federal Protective Service or Guard Service personnel.

• Interior and exterior inspection of vehicles (this includes engine and trunk inspection) at the entrance to the grounds. Parking permits and instructions will be issued after the vehicle inspection.

• Passing through a metal detector and inspection of items brought into the building. We note that all items brought to CMS, whether personal or for the purpose of demonstration or to support a demonstration, are subject to inspection.

We cannot assume responsibility for coordinating the receipt, transfer, transport, storage, set-up, safety, or timely arrival of any personal belongings or items used for demonstration or to support a demonstration.

Note: Individuals who are not registered in advance will not be permitted to enter the building and will be unable to attend the meeting. The public may not enter the building earlier than 45 minutes prior to the convening of the meeting.

All visitors must be escorted in areas other than the lower and first floor levels in the Central Building. Seating capacity is limited to the first 250 registrants.

Authority: Section 131(d) The Medicare Improvements for Patients and Providers Act of 2008.

Dated: October 9, 2008.
Kerry Weems,
Acting Administrator, Centers for Medicare & Medicaid Services.

[FR Doc. E8-24900 Filed 10-23-08; 8:45 am]

BILLING CODE 4120-01-P